CHEMICAL SAFETY AND HAZARD INVESTIGATION BOARD

Sunshine Act Meeting

TIME AND DATE: February 7, 2013; 6:30 p.m. EST.

PLACE: Seelbach Hilton, Medallion E&F Salon, 500 Fourth Street, Louisville, KY.

STATUS: Open to the public.

MATTERS TO BE CONSIDERED: The Chemical Safety and Hazard Investigation Board (CSB) announces that it will convene a public meeting on Thursday, February 7, 2013, starting at 6:30 p.m. EST in the Medallion E&F Salon at the Seelbach Hilton located at 500 Fourth Street in Louisville, KY.

The agenda for the meeting includes the presentation of the findings from the CSB investigation into the March 21, 2011, furnace explosion that occurred at the Carbide Industries facility located in Louisville, KY. Two workers were killed and two were injured when an electric arc furnace (EAF) over pressured and emitted powdered debris, hot gases, and molten calcium carbide. The hot gases and debris blown from the furnace broke through the double-pane reinforced glass window of the control room, severely burning the two workers inside; they died within 24 hours from burn injuries.

At the meeting, CSB staff will present to the Board the results of the investigation into this incident. Key issues identified in the investigation include facility siting and the effectiveness of safety standards that cover electric arc furnaces. Following the staff presentation on proposed findings and safety recommendations, the Board will hear brief comments from the public.

Following the conclusion of the public comment period, the Board will consider whether to approve the final case study and recommendations. All staff presentations are preliminary and are intended solely to allow the Board to consider in a public forum the issues and factors involved in this case. No factual analyses, conclusions, or findings presented by staff should be considered final. Only after the Board has considered the staff presentations, listened to public comments, and adopted a final investigation report and recommendations will there be an approved final record of the CSB investigation of this incident.

Following consideration of the report on the Carbide Industries explosion, the Chairperson may call up the following items related to CSB safety recommendations that have been calendared for consideration at a public meeting: Notation Items 843, 2013-01, 2013-02, and 2013-04. Details on each item are available at http://www.csb.gov/records/default.aspx.

The meeting will be free and open to the public. If you require a translator or interpreter, please notify the individual listed below as the “Contact Person for Further Information,” at least five business days prior to the meeting.

The CSB is an independent Federal agency charged with investigating industrial accidents that result in the release of extremely hazardous substances. The agency's Board Members are appointed by the President and confirmed by the Senate. CSB investigations look into all aspects of accidents, including physical causes such as equipment failure as well as inadequacies in regulations, industry standards, and safety management systems.

CONTACT PERSON FOR FURTHER INFORMATION: Hillary J. Cohen, Communications Manager, hillary.cohen@csb.gov or (202) 446-8094. General information about the CSB can be found on the agency Web site at: www.csb.gov.

Dated: January 28, 2013.
Rafael Moure-Eraso,
Chairperson.

[FR Doc. 2013-02121 Filed 1-28-13; 4:15 pm]

BILLING CODE 6350-01-P